DEPARTMENT OF TRANSPORTATION

Federal Aviation Administration

Air Traffic Noise, Fuel Burn, and Emissions Modeling Using the Aviation Environmental Design Tool Version 2a

AGENCY: Federal Aviation Administration (FAA), DOT.

ACTION: Policy Statement.

SUMMARY: This document provides a statement of FAA policy concerning the required use of the Aviation Environmental Design Tool version 2a (AEDT 2a) to analyze noise, fuel burn, and emissions for FAA air traffic airspace and procedure actions where the study area is larger than the immediate vicinity of an airport, incorporates more than one airport, or includes actions above 3,000 feet above ground level (AGL). The policy statement is intended to ensure consistency and quality of analysis performed to assess noise, fuel burn, and emissions impacts of such actions under the National Environmental Policy Act of 1969 (NEPA), as amended, 42 United States Code (U.S.C.) §§ 4321 et seq.

DATES: Effective March 21, 2012.

FOR FURTHER INFORMATION CONTACT: Rebecca Cointin, Office of Environment and Energy (AEE), Federal Aviation Administration, 800 Independence Ave. SW., Washington, DC 20591; Telephone: (202) 493-5047.

SUPPLEMENTARY INFORMATION: Background: FAA Order 1050.1E, Environmental Impacts: Policies and Procedures, describes FAA policies and procedures for compliance with the National Environmental Policy Act (NEPA).

Under FAA Order 1050.1E, Appendix A, Section 2.4c, states “the [Emissions and Dispersion Modeling System] EDMS is FAA's required methodology for performing air quality analysis modeling for aviation sources.” Section 2.4d states that “[e]xcept for air toxics or where advance written approval has been granted to use an equivalent methodology and computer model by the FAA Office of Environment and Energy, the air quality analyses for aviation emission sources from airport and FAA proposed projects conducted to satisfy NEPA, general conformity, and 49 USC 47106(c) requirements under the Clean Air Act Amendments of 1990 (as amended) must be prepared using the most recent EDMS model available at the start of the environmental analysis process.”

FAA Order 1050.1E, Appendix A, Section 13.2a describes the FAA policy to conserve resources such as energy, and the requirement “to identify any proposed major changes in stationary facilities or the movement of aircraft and ground vehicles that would have a measurable effect on local supplies of energy or natural resources.”

FAA Order 1050.1E, Appendix A, Section 14.5e states that for “air traffic airspace actions where the study area is larger than the immediate vicinity of an airport, incorporates more than one airport, or includes actions above 3,000 feet [Above Ground Level—AGL], noise modeling will be conducted using [the Noise Integrated Routing System—NIRS].”

The FAA developed the AEDT 2a to model aircraft noise, fuel burn, and emissions for air traffic airspace and procedure actions for which the use of NIRS is currently required. AEDT 2a has the capability to model aircraft performance based on fleet mix, airport configuration, and operations schedule. These data are used to compute aircraft noise, fuel burn and emissions simultaneously. By standardizing these data, AEDT 2a will help FAA stakeholders make more informed decisions on specific environmental impacts of aviation.

Policy Statement

Effective March 21, 2012, AEDT 2a is the required tool for noise, fuel burn, and emissions modeling of air traffic airspace and procedure actions where the study area is larger than the immediate vicinity of an airport, incorporates more than one airport, or includes actions above 3,000 feet AGL. Consistent with current FAA policy and practice, the use of AEDT 2a is not required for projects whose analysis began before the effective date of this policy. In the event AEDT 2a is updated after the environmental analysis process if underway, the updated version may, but need not, be used to provide additional disclosure concerning noise, fuel burn, and emissions.

FAA-AEE has approved AEDT 2a as an “equivalent methodology” to EDMS for developing aircraft-only emissions inventories when required for air traffic airspace and procedure actions.

FAA-AEE has approved AEDT 2a to analyze fuel burn to inform the discussion of energy impacts and to assist in assessing greenhouse gas emissions for air traffic airspace and procedure actions.

FAA-AEE has issued AEDT 2a to replace NIRS as the required tool to analyze noise and fuel burn for air traffic airspace and procedure actions.

This policy statement is issued to ensure consistency and quality of analysis performed to comply with requirements under the National Environmental Policy Act of 1969 (NEPA), as amended, 42 United States Code (U.S.C.) §§ 4321 et seq.

Issued in Washington, DC, on March 21, 2012.
Lourdes Q. Maurice,
Executive Director, Office of Environment and Energy.

[FR Doc. 2012-7354 Filed 3-26-12; 8:45 am]

BILLING CODE 4910-13-P